DEPARTMENT OF THE INTERIOR

Bureau of Land Management

[ES-020-1430-FQ; FLES-016153]

Public Land Order No. 7711; Revocation of the Withdrawal Established by Executive Order Dated December 19, 1883; Florida

AGENCY: Bureau of Land Management, Interior.

ACTION: Public land order.

SUMMARY: This order revokes in its entirety the withdrawal established by an Executive Order as to 667.96 acres of public land withdrawn from surface entry and mining and reserved for use by the United States Coast Guard for lighthouse purposes. The reservation is no longer needed by the United States Coast Guard. This order makes 44.77 acres of the formerly reserved land available for conveyance under the Recreation and Public Purposes Act. The remaining land was previously conveyed out of Federal ownership.

EFFECTIVE DATE: July 25, 2008.

FOR FURTHER INFORMATION CONTACT: Steven Wells, Bureau of Land Management—Eastern States, 7450 Boston Boulevard, Springfield, Virginia 22153, 703-440-1527.

SUPPLEMENTARY INFORMATION: All of the land, except as described in Paragraph 2, has been conveyed out of Federal ownership. This revocation is for record clearing purposes only for the lands previously conveyed out of Federal ownership.

Order

By virtue of the authority vested in the Secretary of the Interior by Section 204 of the Federal Land Policy and Management Act of 1976, 43 U.S.C. 1714 (2000), it is ordered as follows:

1. The withdrawal established by Executive Order dated December 19, 1883, which reserved public land on Sanibel Island, Florida, for lighthouse purposes, is hereby revoked in its entirety.

2. The following described land is hereby made available for conveyance under the Recreation and Public Purposes Act, as amended, 43 U.S.C. 869 (2000):

Tallahassee Meridian

T. 46 S., R. 23 E.,

Sec. 21, lots 1 and 4.

The area described contains 44.77 acres in Lee County.

Dated: June 4, 2008.
C. Stephen Allred,
Assistant Secretary—Land and Minerals Management.

[FR Doc. E8-14385 Filed 6-24-08; 8:45 am]

BILLING CODE 4310-GJ-P